DEPARTMENT OF LABOR

Employment and Training Administration

[TA-W-50,823]

Alcoa Composition Foils, Pevely, MO; Notice of Negative Determination Regarding Application for Reconsideration

By application of May 23, 2003, petitioners requested administrative reconsideration of the Department's negative determination regarding eligibility for workers and former workers of the subject firm to apply for Trade Adjustment Assistance (TAA). The denial notice was signed on April 28, 2003 and published in the Federal Register on May 9, 2003 (68 FR 25060).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Alcoa Composition Foils, Pevely, Missouri, engaged in the production of lead and tin foil for the medical, dental and x-ray industries, was denied because the “contributed importantly” group eligibility requirement of section 222(3) of the Trade Act of 1974 was not met. The “contributed importantly” test is generally demonstrated through a survey of the workers' firm's customers. The Department conducted a survey of the subject firm's major customers regarding their purchases of competitive products in 2001, 2002, and January through March 2003. The respondents reported no increased imports. The subject firm did not increase its reliance on imports of lead and tin foil during the relevant period, nor did they shift production to a foreign source.

The petitioner alleges that the subject firm was sold to a foreign company which is currently supplying the subject firm customers with products like or directly competitive with those produced at the subject firm.

As established in the initial investigation, neither the company nor its customers reported importing like or directly competitive products during the relevant period of the investigation. Should the petitioners wish the Department to investigate a more recent period, they would be advised to file a new petition.

Conclusion

After review of the application and investigative findings, I conclude that there has been no error or misinterpretation of the law or of the facts which would justify reconsideration of the Department of Labor's prior decision. Accordingly, the application is denied.

Signed at Washington, DC, this 25th day of July, 2003.
Elliott S. Kushner,
Certifying Officer, Division of Trade Adjustment Assistance.

[FR Doc. 03-20114 Filed 8-6-03; 8:45 am]

BILLING CODE 4510-30-P